DEPARTMENT OF COMMERCE

National Oceanic and Atmospheric Administration

RIN 0648-XA227

South Atlantic Fishery Management Council (Council); Public Meetings

AGENCY: National Marine Fisheries Service (NMFS), National Oceanic and Atmospheric Administration (NOAA), Commerce.

ACTION: Notice of public meetings.

SUMMARY: The South Atlantic Fishery Management Council will hold a meeting of its Spiny Lobster Committee, Mackerel Committee, Ecosystem-Based Management Committee, Law Enforcement Advisory Panel, Joint Law Enforcement Committee and Advisory Panel, Golden Crab Committee, Shrimp Committee, Southeast Data, Assessment and Review (SEDAR) Committee, Joint Executive/Finance Committee, Standard Operating, Policy and Procedures (SOPPs) Committee, Snapper Grouper Committee and a meeting of the Full Council. The Council will take action as necessary.

The Council will also hold an open informal public question and answer session regarding agenda items, as well as public comment on Regulatory Amendment 9 to the Snapper Grouper Fishery Management Plan (FMP) addressing commercial trip limits and possible changes to black sea bass bag limits. See SUPPLEMENTARY INFORMATION for additional details.

DATES: The meeting will be held March 7-11, 2011. See SUPPLEMENTARY INFORMATION for specific dates and times.

ADDRESSES: The meeting will be held at the Sea Palms Resort and Conference Center, 5445 Frederica Rd., St. Simons Island, GA 31522; telephone: (1-800) 841-6268 or (912) 638-3351; fax: (912) 638-5416. Copies of documents are available from Kim Iverson, Public Information Officer, South Atlantic Fishery Management Council, 4055 Faber Place Drive, Suite 201, North Charleston, SC 29405.

FOR FURTHER INFORMATION CONTACT: Kim Iverson, Public Information Officer; telephone: (843) 571-4366 or toll free at (866) SAFMC-10; fax: (843) 769-4520; e-mail: kim.iverson@safmc.net.

SUPPLEMENTARY INFORMATION:

Meeting Dates

1. Spiny Lobster Committee Meeting: March 7, 2011, 1:30 p.m. Until 2:30 p.m.

The Spiny Lobster Committee will review the draft of Amendment 10 to the Spiny Lobster Fishery Management Plan for the Gulf of Mexico and South Atlantic Regions and the Draft Environmental Impact Statement (DEIS). Amendment 10 addresses the requirements of the Reauthorized Magnuson-Stevens Fishery Conservation and Management Act (MSA) including establishment of Annual Catch Limits (ACLs) and Accountability Measures (AMs). The committee will modify Amendment 10/DEIS based on Gulf Council actions as appropriate and approve the modified Amendment 10/DEIS for public hearing.

Concurrent Session

2. Law Enforcement Advisory Panel Meeting: March 7, 2011, 1:30 p.m. Until 5:30 p.m.

The Law Enforcement Advisory Panel (AP) will receive an overview, followed by a discussion and development of recommendations, on the following Council actions: Regulatory Amendment 9 to the Snapper Grouper FMP; black sea bass bag limit analysis; and the Comprehensive ACL Amendment. The Comprehensive ACL Amendment will specify ACLs, AMs and other values as mandated in the MSA for species managed by the Council and not subject to overfishing. This includes species in the Snapper Grouper, Coral, Golden Crab, and Dolphin Wahoo fishery management units.

The Committee will also review the Comprehensive Ecosystem-Based Amendment (CE-BA) 2 that includes regulatory measures pertaining to the harvest of octocorals and non-regulatory actions that update existing Essential Fish Habitat (EFH) information. CE-BA 2 also modifies management of Special Management Zones in South Carolina, amends sea turtle release gear requirements for the commercial snapper grouper fishery, and designates new EFH and EFH/Habitat Areas of Particular Concern.

The AP will also review and provide recommendations for Regulatory Amendment 11 to the Snapper Grouper FMP containing alternatives to modify regulations pertaining to the deepwater species in order to reduce the socio-economic effects expected from the regulations in Amendment 17B to the Snapper-Grouper FMP while maintaining or increasing the biological protection to speckled hind and warsaw grouper in the South Atlantic.

3. Mackerel Committee Meeting: March 7, 2011, 2:30 p.m. Until 3:30 p.m.

The Mackerel Committee will review the draft of Amendment 18 to the Coastal Migratory Pelagic FMP for the Gulf of Mexico and South Atlantic and the Environmental Assessment (EA) requirements of the MSA to set ACLs and AMs for species managed in the FMP. The Committee will modify Amendment 18/EA based on Gulf Council actions as appropriate, approve the modified Amendment 18/EA for public hearing and provide direction to staff on Mackerel Amendment 19. Amendment 19 will address the sale of species in the FMP caught under the bag limit.

4. Ecosystem-Based Management Committee Meeting: March 7, 2011, 3:30 p.m. Until 5:30 p.m.

The Ecosystem-Based Management Committee will review comments from public hearings, receive an overview of the CE-BA 2 actions and alternatives and provide guidance to staff. The Committee will give the initial approval for CE-BA 2 and receive an update on ecosystem activities.

5. Joint Law Enforcement Committee and Advisory Panel Meeting: March 8, 2011, 8:30 a.m. Until 10 a.m.

The Joint Law Enforcement Committee and Advisory Panel will receive a presentation on vessel monitoring systems, and the AP will provide its report to the Committee.

6. Golden Crab Committee Meeting: March 8, 2011, 10 a.m. Until 11 a.m.

The Golden Crab Committee will review public scoping comments to Amendment 5 to the Golden Crab FMP addressing a catch share program for the commercial fishery and discuss appropriate changes to the amendment.

7. Shrimp Committee Meeting: March 8, 2011, 11 a.m. Until 12 noon

The Shrimp Committee will receive a report on the over-wintering status of the shrimp resource and determine if a closure is necessary.

8. SEDAR Committee Meeting: March 8, 2011, 1:30 p.m. to 2:30 p.m.

The SEDAR Committee will receive an update on SEDAR activities, a report on the SEDAR Steering Committee meeting, and follow-up actions. The Committee will develop recommendations for the May 2011 Steering Committee meeting.

9. Joint Executive/Finance Committees Meeting: March 8, 2011, 2:30 p.m. Until 3:30 p.m.

The Joint Executive/Finance Committees will receive a status report on the Calendar Year (CY) 2011 Council budget and activities, the status of the Fiscal Year 2011 Congressional budget, and will review and discuss the tentative CY 2011 Council budget and activities schedule.

10. SOPPs Committee Meeting: March 8, 2011, 3:30 p.m. Until 5 p.m.

The SOPPs Committee will develop changes to the operational policy and procedures in accordance with the final rule as proposed by staff.

11. Snapper Grouper Committee Meeting: March 9, 2011, 8:30 a.m. Until 5 p.m., and March 10, 2011, 8:30 a.m. Until 10 a.m.

The Snapper Grouper Committee will receive a report on activities within the Oculina Bank Experimental Closed Area and receive a report from the Scientific and Statistical Committee.

The Committee will receive an overview of the black sea bass bag limit issues and analysis and provide directions to staff.

The Committee will review public hearing comments regarding Regulatory Amendment 9, modify the amendment as appropriate, and approve the amendment for formal Secretarial review. Regulatory Amendment 9 addresses commercial trip limits for black sea bass, vermilion snapper, gag and greater amberjack.

The Committee will review and modify as appropriate Regulatory Amendment 11 and receive a report on the status of Amendment 18A. Amendment 18A includes improvements for fisheries statistics along with actions to modify the golden tilefish and black sea bass commercial fisheries.

The Committee will review the public hearing comments, modify, and recommend the initial approval of the Comprehensive Annual Catch Limit (ACL) Amendment.

The Committee will report on the status of Amendments 20, 21, 22 and 24 to the Snapper Grouper FMP. Amendment 20 concerns the current Individual Transferable Quota (ITQ) program for wreckfish. Amendment 21 addresses alternatives for management of the snapper grouper fishery, including effort and participation reductions, endorsements, catch shares, and regional quotas. Amendment 22 includes options for long-term management measures for red snapper in the South Atlantic as the stock rebuilds. Amendment 24 addresses requirements under the MSA for red grouper, including establishment of ACLs, AMs and a rebuilding plan.

Note: There will be an informal public question and answer session with an administrator from the National Marine Fisheries Service (NMFS) and the Council Chairman on March 9, 2011 beginning at 5:30 p.m.

Council Session: March 10, 2011, 10:30 a.m. until 5:15 p.m. and March 11, 2011, 8:30 a.m. until 12 noon (Note: a portion of the meeting will be Closed.)

Council Session: March 10, 2011, 10:30 a.m. until 5:15 p.m.

From 10:30 a.m.-10:45 a.m., the Council will call the meeting to order, adopt the agenda, and approve the December 2010 meeting minutes.

Note: A public comment period on Snapper Grouper Regulatory Amendment 9 and black sea bass bag limit changes will be held on March 10, 2011 beginning at 10:45 a.m. and followed by public comment regarding any other items on the Council agenda.

From 1:30 p.m.-3:30 p.m., the Council will receive a report from the Snapper Grouper Committee, approve Regulatory Amendment 9 for submission to the Secretary of Commerce, approve the black sea bass recreational bag limit changes, give the initial approval of the Comprehensive ACL Amendment, address issues from Regulatory Amendment 11, consider other Committee recommendations, and take action as appropriate.

From 3:30 p.m.-3:45 p.m., the Council will receive a report from the Spiny Lobster Committee, approve Spiny Lobster Amendment 10/DEIS for public hearing, consider other Committee recommendations, and take action as appropriate.

From 3:45 p.m.-4 p.m., the Council will receive a report from the Mackerel Committee, approve Mackerel Amendment 18/EA for public hearing, consider other Committee recommendations, and take action as appropriate.

From 4 p.m.-4:15 p.m., the Council will receive a report from the Ecosystem-Based Management Committee, give initial approval of the CE-BA 2, consider other Committee recommendations, and take action as appropriate.

From 4:15 p.m.-4:30 p.m., the Council will receive a report from the Golden Crab Committee, consider Committee recommendations, and take action as appropriate.

From 4:30 p.m.-4:45 p.m., the Council will receive a report from the SEDAR Committee, consider Committee recommendations, and take action as appropriate.

From 4:45 p.m.-5:15 p.m. the Council will receive a legal briefing on litigation (closed session).

Council Session: March 11, 2011, 8:30 a.m. until 12 noon.

From 8:30 a.m.-8:45 a.m., the Council will receive a report from the joint Executive/Finance Committees and take action as appropriate.

From 8:45 a.m.-9 a.m., the Council will receive a report from the SOPPs Committee, approve any changes to SOPPs, consider Committee recommendations, and take action as appropriate.

From 9 a.m.-9:15 a.m., the Council will receive a report from the Law Enforcement Committee, consider Committee recommendations, and take action as appropriate.

From 9:15 a.m.-9:30 a.m., the Council will receive a report from the Shrimp Committee, consider Committee recommendations, and take action as appropriate.

From 9:30 a.m.-12 noon, the Council will receive status reports from NOAA Fisheries' Southeast Regional Office, NOAA Fisheries' Southeast Fisheries Science Center, review Experimental Fishing Permits as necessary, receive agency and liaison reports, and discuss other business including upcoming meetings.

Documents regarding these issues are available from the Council office (see ADDRESSES).

Although non-emergency issues not contained in this agenda may come before this Council for discussion, those issues may not be the subjects of formal final Council action during these meetings. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by March 3, 2011.

Dated: February 14, 2011.
Tracey L. Thompson,
Acting Director, Office of Sustainable Fisheries, National Marine Fisheries Service.

[FR Doc. 2011-3650 Filed 2-17-11; 8:45 am]

BILLING CODE 3510-22-P